DEPARTMENT OF AGRICULTURE

Agricultural Marketing Service

[Doc. No. TM-06-07]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Wednesday, April 19, 2006, 1 p.m. to 5 p.m.; and Thursday, April 20, 2006, 8 a.m. to 5:30 p.m. Requests from individuals and organizations wishing to make an oral presentation at the meeting are due by the close of business on April 7, 2006.

ADDRESSES: The meeting will take place at the Ramada Conference Center, 1450 South Atherton Street, State College, PA. Requests for copies of the NOSB meeting agenda, requests to make an oral presentation at the meeting, or written comments may be sent to Ms. Katherine Benham at USDA-AMS-TMD-NOP, 1400 Independence Avenue, SW., Room 4008-So., Ag Stop 0268, Washington, DC 20250-0200. Requests to make an oral presentation at the meeting may also be sent via facsimile to Ms. Katherine Benham at (202) 205-7808 or electronically to Ms. Katherine Benham at Katherine.benham@usda.gov.

FOR FURTHER INFORMATION CONTACT: Katherine E. Benham, Advisory Board Specialist, National Organic Program, (202) 205-7806.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six committees working on various aspects of the organic program. The committees are: Compliance, Accreditation, and Certification; Crops; Livestock; Materials; Handling; and Policy Development.

In August of 1994, the NOSB provided its initial recommendations for the National Organic Program (NOP) to the Secretary of Agriculture. Since that time, the NOSB has submitted 99 addenda to its recommendations and reviewed more than 269 substances for inclusion on the National List of Allowed and Prohibited Substances. The last meeting of the NOSB was held on November 16-17, 2005, in Washington, DC.

The Department of Agriculture (USDA) published its final National Organic Program regulation in the Federal Register on December 21, 2000, (65 FR 80548). The rule became effective April 21, 2001.

The principal purposes of the meeting are to provide an opportunity for the NOSB to receive an update from the USDA/NOP and hear progress reports from NOSB committees regarding work plan items and proposed action items. The NOSB will receive presentations from the Aquaculture Working Group and Pet Food Task Force. The NOSB subcommittees (Crops, Livestock, and Handling Committees) will also present for, full NOSB consideration, recommendations concerning the continued use or prohibition of 29 substances being reviewed under the OFPA's sunset provisions for the National List. The NOSB will vote on these recommendations.

The OFPA authorized a National List of Allowed and Prohibited Substances. The Act also provides that no allowed or prohibited substance would remain on the National List for a period exceeding 5 years unless the exemption or prohibition is reviewed and recommended for renewal by the NOSB and adopted by the Secretary of Agriculture. This expiration is commonly referred to as sunset of the National List. The National List was implemented on October 21, 2002, and contained over 170 substances. This first sunset of the National List triggers a review process that must be concluded no later than October 21, 2007. If renewal is not concluded by that date, the use or prohibition of hundreds of materials will no longer be valid for the organic industry, causing most if not all of the organic industry to be in noncompliance with the National Organic Standards. Because this first sunset process involves Federal rulemaking, the NOSB and the NOP has issued guidance and begun work on the National List Sunset process in order to avoid expiration of the National List on October 21, 2007. At its November 16-17, 2005, meeting in Washington, DC, the NOSB recommended that the Secretary continue the use of 143 substances in organic crop and livestock production and handling. The NOSB recommended not renewing the listing of one substance, potassium tartrate made from tartaric acid. The substance appears twice on the Nation List, with two different names. The NOSB recommended removing it because of redundancy.

The Handling Committee will discuss its continued work on determining when a product is agricultural versus nonagricultural. The Materials and Handling Committees will discuss NOP feedback regarding guidance for making determinations on whether a substance is synthetic or non-synthetic. Finally, the Policy Development and Handling Committees will present, for full NOSB consideration, a recommendation for facilitating determinations regarding the commercial availability of organic agricultural ingredients.

For further information, see http://www.ams.usda.gov/nop. Copies of the NOSB meeting agenda can be requested from Ms. Katherine Benham by telephone at (202) 205-7806; or by accessing the NOP Web site at http://www.ams.usda.gov/nop.

The Meeting is Open to the Public. The NOSB has scheduled time for public input for Wednesday, April 19, 2006, from 2 p.m. to 4:15 p.m., and Thursday, April 20, 2006, from 11 a.m. to 1 p.m. Individuals and organizations wishing to make an oral presentation at the meeting may forward their request by mail, facsimile, or e-mail to Katherine Benham at addresses listed in ADDRESSES above. Individuals or organizations will be given approximately 5 minutes to present their views. All persons making an oral presentation are requested to provide their comments in writing. Written submissions may contain information other than that presented at the oral presentation.

Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from the meeting.

Dated: March 17, 2006.
Lloyd C. Day,
Administrator, Agricultural Marketing Service.

[FR Doc. 06-2788 Filed 3-21-06; 8:45 am]

BILLING CODE 3410-02-P